DEPARTMENT OF COMMERCE

Bureau of Industry and Security

Commercial Encryption Items Under the Jurisdiction of the Department of Commerce

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 12, 2002.

ADDRESSES: Direct all written comments to Diana Hynek, Departmental Paperwork Clearance Officer, Office of the Chief Information Officer, Department of Commerce, Room 6625, 14th and Constitution Avenue, NW., Washington, DC 20230 or via e-mail dhynek@doc.gov.

FOR FURTHER INFORMATION CONTACT: Requests for additional information or copies of the information collection instrument(s) and instructions should be directed to Marna Dove, BIS ICB Liaison, Department of Commerce, Room 6622, 14th & Constitution Avenue, NW., Washington, DC 20230.

SUPPLEMENTARY INFORMATION:

I. Abstract

Encryption items are an important commercial export for the U.S. but they also have significant strategic uses. This information collection is essential because the responsibility for export authorization for commercial encryption items has been transferred from the Department of State to the Department of Commerce. The information required by this collection is required in support of classification requests regarding encryption items and applications to export or reexport encryption items and encryption software. Overall, U.S. policies continues to develop. A recent regulation liberalizes the licensing policy for exports and reexports of encryption commodities and software to U.S. subsidiaries, insurance companies, health and medical end-users, on-line merchants and foreign commercial firms. As encryption policies continue to develop, paperwork requirements will fluctuate.

II. Method of Collection

Typed or by Fax.

III. Data

OMB Number: 0694-0104.

Form Number: BIS-748P.

Type of Review: Regular submission for extension of a currently approved collection.

Affected Public: Individuals, businesses or other for-profit and not-for-profit institutions.

Estimated Number of Respondents: 234.

Estimated Time Per Response: 15 minutes to 5½ hours per response.

Estimated Total Annual Burden Hours: 1,372.

Estimated Total Annual Cost: No capital expenditures are required.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: September 6, 2002.
Madeleine Clayton,
Management Analyst, Office of the Chief Information Officer.

[FR Doc. 02-23120 Filed 9-11-02; 8:45 am]

BILLING CODE 3510-33-P